FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202) 523-5793 or tradeanalysis@fmc.gov.

Agreement No.: 011733-031.

Title: Common Ocean Carrier Platform Agreement.

Parties: A.P. Moller-Maersk A/S; American President Lines, Ltd., APL Co., PTE Ltd.; CMA CGM; Hamburg-Süd; Hapag-Lloyd AG; Mediterranean Shipping Company S.A.; and United Arab Shipping Company (S.A.G.) as shareholder parties, and Alianca Navegacao e Logistica Ltda.; China Shipping Container Lines Company Limited; Compania Chilena de Navegacion Interoceanica S.A.; Compania Sud Americana de Vapores, S.A.; Companhia Libra de Navegacao; COSCO Container Lines Co., Ltd.; Emirates Shipping Lines; Evergreen Line Joint Service Agreement; Gold Star Line, Ltd.; Hanjin Shipping Co., Ltd.; Hyundai Merchant Marine Co. Ltd; Intermarine LLC; Kawasaki Kisen Kaisha, Ltd.; MISC Berhad; Mitsui O.S.K. lines Ltd.; Nippon Yusen Kaisha; Norasia Container Lines Limited; Tasman Orient Line C.V. and Zim Integrated Shipping as non-shareholder parties.

Filing Party: Wayne R. Rohde, Esq.; Cozen O'Connor; 1627 I Street NW., Suite 1100, Washington, DC 20006.

Synopsis: The amendment adds Intermarine LLC and Compania Chilena de Navegacion Interoceanica S.A. as parties to the agreement.

Agreement No.: 012241.

Title: CSCL/UASC/PIL Vessel Sharing Agreement and Slot Exchange Agreement—Asia and US/Canada West Coast Services.

Parties: China Shipping Container Lines Co. Ltd. and China Shipping Container Lines (Hong Kong) Co., Ltd. (collectively known as China Shipping); United Arab Shipping Company S.A.G.; and Pacific International Lines (Pte) Ltd.

Filing Party: Brett M. Esber, Esq.; Blank Rome LLP; 600 New Hampshire Avenue NW., Washington, DC 20037.

Synopsis: The agreement authorizes the parties to share and provide space to each other on each party's vessels in the trade between the West Coast of the U.S. and Canada, on the one hand, and ports in China and South Korea, on the other hand.

Agreement No.: 012242.

Title: Maersk Line/CMA CGM OC-1 PAD2 Space Charter Agreement.

Parties: A.P. Moller-Maersk A/S trading under the name of Maersk Line and CMA CGM S.A.

Filing Party: Wayne R. Rohde, Esq.; Cozen O'Connor; 1627 I Street NW., Suite 1100, Washington, DC 20006.

Synopsis: The agreement authorizes Maersk Line to charter space to CMA CGM in the trades between ports on the U.S. Atlantic Coast and ports in Australia, New Zealand, Colombia and Panama.

By Order of the Federal Maritime Commission.
Dated: January 10, 2014.
Rachel E. Dickon,
Assistant Secretary.

[FR Doc. 2014-00665 Filed 1-15-14; 8:45 am]

BILLING CODE 6730-01-P